DEPARTMENT OF THE INTERIOR

Bureau of Indian Affairs

Notice of Availability of the Record of Decision (Rod) for a Proposed Lease of Tribal Trust Lands Between Private Fuel Storage, L.L.C. (PFS) and Skull Valley Band of Goshute Indian (Band) in Tooele County, UT

AGENCY: Bureau of Indian Affairs, Interior.

ACTION: Notice of Availability.

SUMMARY: The Bureau of Indian Affairs (BIA) has signed the Record of Decision (ROD) that disapproves a proposed lease of tribal trust lands between Private Fuel Storage, L.L.C. (PFS) and the Skull Valley Band of Goshute Indians. BIA analyzed the environmental impacts of the proposed lease under the National Environmental Policy Act (NEPA) and issued a draft environmental impact statement (EIS) in June 2000, and the final EIS (FEIS) in December 2001. The BIA decision is based on review of the draft EIS; the FEIS; comments received from the public, other Federal agencies, and State and local governments; consideration of the required factors under the Indian Long-term Leasing Act and implementing regulation; and discussion of all the alternatives with the cooperating agencies.

FOR FURTHER INFORMATION CONTACT: Arch Wells; Deputy Director, Office of Trust Services, Bureau of Indian Affairs; 1849 C St. NW.; Washington, DC 20240; Telephone (202) 208-7513.

ADDRESSES: Copies of the Record of Decision are available from Arch Wells; Office of Trust Services; Bureau of Indian Affairs; 1849 C St. NW.; Washington, DC 20240.

SUPPLEMENTARY INFORMATION: The Skull Valley Bank of Goshute Indians is a federal recognized Tribe with 125 enrolled members. The Band's reservation consists of 18,540 acres in Tooele County, Utah, about 70 miles West of Salt Lake City. Approximately 30 Band members live on the reservation.

The proposed lease would have allowed for the operation of an Independent Spent Fuel Storage Installation (ISFSI) on tribal lands. Spent nuclear fuel (SNF) consists mainly of intact fuel rods removed from a nuclear reactor. The rods contain pellets of uranium, each about the size of a pencil eraser, that are the source of heat inside a reactor vessel. When removed from reactors, the uranium pellets stay in the fuel rods, which remain highly radioactive and must be stored in specially constructed pools of water (“wet storage”) or in specially designed containers cooled by natural airflow (“dry storage”) until the radioactivity decreases to safer levels, a process that can take thousands of years.

The proposed ISFSI at the Goshute Reservation would have been the first large, away from point-of-generation repository of its type to be licensed by the Nuclear Regulatory Commission (NRC). The ISFSI would have been operated by PFS, a private, non-governmental entity composed of eight NRC-licensed nuclear power generators.

BIA was required to by law to consider environmental issues concerning the proposed lease. The decision to disapprove the proposed lease is the result of concern over environmental impacts associated with the proposal. The Record of Decision contains the details of BIA's decision and the reasons for it. To obtain a copy of the Record of Decision, send a request to the address given in the ADDRESSES section of this notice.

Dated: September 7, 2006.
James E. Cason,
Associate Deputy Secretary.

[FR Doc. 06-8484Filed 10-3-06; 8:45 am]

BILLING CODE 4310-W7-M